DEPARTMENT OF HOUSING AND URBAN DEVELOPMENT

[Docket No. FR-5130-N-05]

Privacy Act of 1974; New System of Records, Distributive Shares and Refunds System (DSRS, A80D)

AGENCY: Office of the Chief Information Office, HUD.

ACTION: Establish a new Privacy Act system of records.

SUMMARY: HUD proposes to establish a new system of records to add to its inventory of records subject to the Privacy Act of 1974 (5 U.S.C. 552a), as amended. The proposed new system of records identified as HUD/HS-56, entitled Distributive Shares and Refund System (DSRS, A80D), is utilized to monitor, manage and distribute unearned payment portions of Mortgage Insurance Premiums (MIP) to eligible homeowners.

DATES: Effective Date: The action will be effective without further notice on August 24, 2007 unless comments are received that would result in a contrary determination.

Comments Due Date: August 24, 2007.

ADDRESSES: Interested person and invited to submit comments regarding this new system of records to the Rules Docket Clerk, Office of General Counsel, Department of Housing and Urban Development, 451 Seventh Street, SW., Room 10276, Washington, DC 20410-0500. Communication should refer to the above docket number and title. Facsimile (FAX) comments are not acceptable. A copy of each communication submitted will be available for public inspection and copying between 8 a.m. and 5 p.m. weekdays at the above address.

FOR FURTHER INFORMATION CONTACT: The Departmental Privacy Act Officer, telephone number (202) 708-2374 or Silas C. Vaughn, Chief, Disbursements & Customer Services Branch, (202) 402-3545; Gabriella Scandone, Chief, Systems Management Branch, (202) 402-3545. (These are not toll free numbers.) Telecommunication device for hearing and speech-impaired individuals (TTY) is available at (800) 877-8339 (Federal Information Relay Service).

SUPPLEMENTARY INFORMATION: Title 5 U.S.C. 552a (e)(4) and (11) provide that the public be afforded a 30-day period in which to comment on the new record system.

The new system report, as required by 5 U.S.C. 552a(r) of the Privacy Act was submitted to the Committee on Homeland Security and Governmental Affairs of the United States Senate, the Committee on Government Reform and Oversight of the House of Representatives, and the Office of Management and Budget (OMB) pursuant to paragraph 4c of Appendix I to OMB Circular No. A-130, Federal Agency Responsibilities for Maintaining Records About Individuals, dated June 25, 1993 (58 FR 36075, July 2, 1993).

Authority: 5 U.S.C. 552a; 88 Stat. 1896; 42 U.S.C. 3535(d).

Dated: July 13, 2007.
Lisa Schlosser,
Chief Information Officer.

HUD/HS-56

System Name:

Distributive Shares and Refunds System (DSRS, A80D).

System Location:

Government-owned HITS Data Center in South Charleston, West Virginia and Lanham, Maryland.

Categories of individuals Covered By the System:

All homeowners who had FHA-guaranteed loans or FHA direct loans.

Categories of Records in the System:

Borrows, co-borrow and claimant, name, social security number, mailing address; Loan/ Case Data, FHA Case Number, Property Address Endorsement Date, Termination Date; Financial data; Correspondence data

Authority for Maintenance of the System:

Section 203 of the National Housing Act and Section 7(d) of the Department of Housing and Urban Development Act; Public Law 89-174; 24 CFR 5.210, 24 CFR 200.1101, 24 CFR 203.35; Debt Collection Act of 1982, Public Law 97-365; Housing and Community Development Act of 1987, 42 U.S.C 3543

Purpose(s):

Upon loan termination DSRS calculates the unearned portion of the upfront MIP, and for eligible cases to distribute payments of the unearned portion of the upfront mortgage insurance premium to homeowners; and serves as the repository of all non-claim terminated loan data in the Federal Housing Administration's (FHA) single family guaranteed loan portfolio. DSRS receives information from the Single Family Insurance (SFIS-A-43) when the insurance is terminated. In approximately 75 % of these situations, a refund is automatically made to the homeowner, for the remaining cases, DSRS generates an application for Premium Refund of Distributive Share Payment (form HUD-27050-B) that is sent to the homeowner. The homeowner returns this form and supporting documentation to HUD. These records are forwarded to a data entry contractor who extracts information from the form and prepares an electronic submission to DSRS. Documents are returned to HUD headquarters where they are reviewed and shredded after processing of the payment.

Routine Uses of Records Maintained in the System, Including Categories of Users and the Purposes of Such Uses:

In addition to those disclosures generally permitted under 5 U.S.C. 552a(b) of the Privacy Act, other routine uses are as follow:

(a) HUD staff/management—in order to review and authorize payment to the homeowner(s), management reporting summary information (number and type of refunds/distributive shares, dollar value) for production/operations reporting;

(b) Online system access if provided to Contractor operated call centers—for general homeowner inquiries, form request, payments status. In compliance with the Privacy Act and Litigation, after a two-year period during which the payment has not yet been made, the Department has an online query screen, Does HUD Owe You a Refund? (http://www.hud.gov/ofices/hsg/cop/refunds/index.cfm). At this site, homeowners and other interested parties can determine if they have a refund/share due;

(c) To the Financial Transaction Repository—in order to record accounting transactions in the U.S. General Ledger format. Summary information is case specific details (excluding SSN) are provided during the financial and systems audits conducted by the HUD OIG,CFO, and external auditors for audit purposes; and,

(d) To the U.S. Department of the Treasury—to issue payment to the homeowner(s) and/or claimants.

Policies and practices for storing, retrieving, accessing, retaining, and disposing of records in the system:

Storage:

Records are maintained on the mainframe and on microfilm, microfiche, and CD.

Retrievability:

Records are retrieved by FHA case number and for the webpage by an individual's name.

Safeguards:

Records are maintained in secured office space and secure file rooms to which access is limited to those personnel who service the records.

Retention and Disposal:

Documents are destroyed by shredding once the review and/or approval of payment has been made and the document image has been verified (usually within 30 days of receipt). Microfilm, microfiche, and CD images of the records are maintained for 40 years after which they are destroyed by shredding or burning.

System Manager(s) and Address:

Chief, Disbursements & Customer Services Branch, Office of the Single Family Insurance Operations Division, Department of Housing and Urban Development, 470 L'Enfant Plaza East, Room 3120, Washington, DC 20026; Chief, Systems Management Branch, Office of the Single Family Insurance Operations Division, Department of Housing and Urban Development, 470 L'Enfant Plaza East, Room 3120, Washington, DC 20026

Notification Procedures:

For information, assistance, or inquiry about the existence of records, contact the Privacy Act Officer at the Department of Housing and Urban Development, 451 Seventh Street, SW., Room 4176, Washington, DC 20410, in accordance with the procedures in 24 CFR Part 16.

Contesting Record Procedures:

Procedures for the amendment or correction of records, and appeals appear in 24 CFR part 16. If additional information or assistance is required, contact the Privacy Act Officer at HUD, 451 Seventh Street, SW., Room 4176, Washington DC 20410.

Record Source Categories:

Homeowners provide the data on their loan application—the HUD/VA Addendum to Uniform Residential Loan Application (form HUD-92900-A). Part III of this form, Notice to Borrowers, discusses the collection of personal information. In addition, homeowners are provided with the Important Notice to Homebuyers (form HUD-92900-B) at loan origination and at loan termination by the lender. For those refunds that are not automatically paid, a form HUD-27080-B (OMB Control Number 2502-0414) is generated and requires the homeowner/claimant to fill in data in order to validate that they are due the refund/share payment.

Exemptions from Certain Provisions of the Act:

None.

[FR Doc. E7-14405 Filed 7-24-07; 8:45 am]

BILLING CODE 4210-67-P